DEPARTMENT OF VETERANS AFFAIRS

[OMB Control No. 2900-0099]

Agency Information Collection (Dependents' Request for Change of Program or Place of Training) Activity Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before March 21, 2016.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0099” in any correspondence.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900-0099.”

SUPPLEMENTARY INFORMATION:

Title: Dependents' Request for Change of Program or Place of Training.

OMB Control Number: 2900-0099.

Type of Review: Revision of a currently approved collection.

Abstract: Spouses, surviving spouses, and children who are eligible for Survivor's and Dependent's Educational Assistance (DEA) benefits under chapter 35, and children eligible for the Marine Gunnery Sergeant John David Fry Scholarship (Fry Scholarship) under chapter 33, title 38, U.S. Code, complete VA Form 22-5495 to change their program of education or place of training. VA uses the information collected to determine if the new program is suitable to their abilities, aptitudes, and interest; and to verify the new place of training is approved for benefits.

An agency may not conduct or sponsor, and a person is not required to respond to a collection of information unless it displays a currently valid OMB control number. The Federal Register Notice with a 60-day comment period soliciting comments on this collection of information was published at 80 FR 29723 on November 23, 2015.

Affected Public: Individuals or Households.

Estimated Annual Burden: 36,038 hours.

Estimated Average Burden per Respondent: 15 minutes.

Frequency of Response: One-time.

Estimated Number of Respondents: 144,333 respondents.

By direction of the Secretary,
Kathleen M. Manwell,
Program Analyst, VA Privacy Service, Office of Privacy and Records Management, Department of Veterans Affairs.

[FR Doc. 2016-03287 Filed 2-17-16; 8:45 am]

BILLING CODE 8320-01-P